DEPARTMENT OF THE INTERIOR

National Park Service

[NPS-WASO-NAGPRA-NPS0036676; PPWOCRADN0-PCU00RP14.R50000]

Notice of Inventory Completion: University of Nevada, Las Vegas, Las Vegas, NV

AGENCY: National Park Service, Interior.

ACTION: Notice.

SUMMARY: In accordance with the Native American Graves Protection and Repatriation Act (NAGPRA), the University of Nevada, Las Vegas has completed an inventory of human remains and associated funerary objects and has determined that there is no cultural affiliation between the human remains and associated funerary objects and any Indian Tribe. The human remains and associated funerary objects were removed from Clark County, NV.

DATES: Disposition of the human remains and associated funerary objects in this notice may occur on or after October 30, 2023.

ADDRESSES: Dr. Daniel Benyshek, University of Nevada, Las Vegas, 4505 S Maryland Parkway, Las Vegas, NV 89154, telephone (702) 895-2070, email Daniel.Benyshek@unlv.edu.

SUPPLEMENTARY INFORMATION: This notice is published as part of the National Park Service's administrative responsibilities under NAGPRA. The determinations in this notice are the sole responsibility of the University of Nevada, Las Vegas. The National Park Service is not responsible for the determinations in this notice. Additional information on the determinations in this notice, including the results of consultation, can be found in the inventory or related records held by the University of Nevada, Las Vegas.

Description

Human remains representing, at minimum, 24 individuals were removed from Clark County, Nevada (Accession #s A240 (Berger Site), AHUR 1 (Goodsprings Site), AHUR 2 (New St. Joseph Site), AHUR 5 (Miracle Mile Trailer Park), AHUR 29 (Unknown Site), AHUR 35 (Steve Perkins Site), AHUR 36 (Burial Hill Site), AHUR 59 (Burial Hill Site), AHUR 60 (Burial Hill Site), AHUR 61 (Burial Hill Site), AHUR 66 (Burial Hill Site), AHUR 67 (Burial Hill Site), AHUR 68 (Burial Hill Site), AHUR 122 (Burial Hill Site), AHUR 125(Burial Hill Site), AHUR 126 (Steve Perkins Site), AHUR 135X (Pueblo Point Site), AHUR 530 (Burial Hill Site), AHUR 1275 (Overton Site), AHUR 1279 (Steve Perkins Site), FHUR 13 (Tule Springs Site), FHUR 56 (Unknown Site)). The 32 associated funerary objects include faunal bones, cloth, a button, seeds, a gray ware jar, beads, a pendant, a woven mat, worked bones, stone flakes, burnt bones, shell disc beads, charcoal, a burned corn cob, gravel, a stone tool, pottery sherds, textile pieces, ceramic pieces, bone beads, wood sticks, vegetable fibers (matting), rope, and lithic flakes.

Aboriginal Land

The human remains and associated funerary objects in this notice were removed from known geographic locations. These locations are the aboriginal lands of one or more Indian Tribes. The following information was used to identify the aboriginal land: a final judgment of the Indian Claims Commission.

Determinations

Pursuant to NAGPRA and its implementing regulations, and after consultation with the appropriate Indian Tribes, the University of Nevada, Las Vegas has determined that:

• The human remains described in this notice represent the physical remains of 24 individuals of Native American ancestry.

• The 32 objects described in this notice are reasonably believed to have been placed with or near individual human remains at the time of death or later as part of the death rite or ceremony.

• No relationship of shared group identity can be reasonably traced between the human remains and associated funerary objects and any Indian Tribe.

• The human remains and associated funerary objects described in this notice were removed from the aboriginal land of the Colorado River Indian Tribes of the Colorado River Indian Reservation, Arizona and California; Fort Independence Indian Community of Paiute Indians of the Fort Independence Reservation, California; Fort Mojave Indian Tribe of Arizona, California & Nevada; Kaibab Band of Paiute Indians of the Kaibab Indian Reservation, Arizona; Las Vegas Tribe of Paiute Indians of the Las Vegas Indian Colony, Nevada; Moapa Band of Paiute Indians of the Moapa River Indian Reservation, Nevada; and the Paiute Indian Tribe of Utah (Cedar Band of Paiutes, Kanosh Band of Paiutes, Koosharem Band of Paiutes, Indian Peaks Band of Paiutes, and Shivwits Band of Paiutes).

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after October 30, 2023. If competing requests for disposition are received, the University of Nevada, Las Vegas must determine the most appropriate requestor prior to disposition. Requests for joint disposition of the human remains and associated funerary objects are considered a single request and not competing requests. The University of Nevada, Las Vegas is responsible for sending a copy of this notice to the Indian Tribes identified in this notice.

Authority: Native American Graves Protection and Repatriation Act, 25 U.S.C. 3003, and the implementing regulations, 43 CFR 10.9 and 10.11.

Dated: September 25, 2023.
Melanie O'Brien,
Manager, National NAGPRA Program.

[FR Doc. 2023-21391 Filed 9-28-23; 8:45 am]

BILLING CODE 4312-52-P